ENVIRONMENTAL PROTECTION AGENCY

40 CFR Part 52

[PA143-4115b; FRL-6973-5]

Approval and Promulgation of Air Quality Implementation Plans; Commonwealth of Pennsylvania; Reasonably Available Control Technology Requirements for Volatile Organic Compounds and Nitrogen Oxides

AGENCY: Environmental Protection Agency (EPA).

ACTION: Proposed rule.

SUMMARY: EPA is proposing to remove the conditional status of its approval of the Commonwealth of Pennsylvania State Implementation Plan (SIP) revision that requires all major sources of volatile organic compounds (VOC) and nitrogen oxides ( NOX) to implement reasonably available control technology (RACT). In the “Rules and Regulations” section of this Federal Register, EPA is removing the conditional nature of its approval of the Commonwealth's SIP revision as a direct final rule without prior proposal because the Agency views this as a noncontroversial submittal and anticipates no adverse comments. The rationale for removing the conditional status of EPA's approval is set forth in the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting on this action should do so at this time.

DATES: Comments must be received in writing by June 4, 2001.

ADDRESSES: Written comments should be addressed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103, and the Pennsylvania Department of Environmental Resources Bureau of Air Quality Control, P.O. Box 8468, 400 Market Street, Harrisburg, Pennsylvania 17105.

FOR FURTHER INFORMATION CONTACT: Ellen Wentworth, (215) 814-2034, at the EPA Region III address above, or by e-mail at wentworth.ellen@epa.gov.

SUPPLEMENTARY INFORMATION: For further information, please see the information provided in the direct final action with the same title that is located in the “Rules and Regulations” section of this Federal Register publication.

Dated: April 24, 2001.
William C. Early,
Acting Regional Administrator, Region III.

[FR Doc. 01-10985 Filed 5-2-01; 8:45 am]

BILLING CODE 6560-50-U